FEDERAL RESERVE SYSTEM

Agency Information Collection Activities: Announcement of Board Approval Under Delegated Authority and Submission to OMB

AGENCY: Board of Governors of the Federal Reserve System.

SUMMARY: Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Cynthia Ayouch—Division of Research and Statistics, Board of Governors of the Federal Reserve System, Washington, DC 20551 (202) 452-3829.

Telecommunications Device for the Deaf (TDD) users may contact (202) 263-4869, Board of Governors of the Federal Reserve System, Washington, DC 20551.

OMB Desk Officer—Shagufta Ahmed—Office of Information and Regulatory Affairs, Office of Management and Budget, New Executive Office Building, Room 10235, 725 17th Street NW.,Washington, DC 20503.

Final approval under OMB delegated authority of the extension for three years, without revision, of the following reports:

1. Report title: Disclosure and Reporting Requirements of CRA-Related Agreements.

Agency form number: Reg G.

OMB Control number: 7100-0299.

Frequency: On occasion and annual.

Reporters: Insured depository institutions (IDIs), savings and loan holding companies (SLHCs) and nongovernmental entities or persons (NGEPs).

Estimated annual reporting hours: 78 hours.

Estimated average hours per response: 1 hour (3 disclosure requirements and 5 reporting requirements) and 4 hours (2 reporting requirements).

Number of respondents: 3 IDIs and SLHCs, and 6 NGEPs.

General description of report: This information collection is mandatory pursuant the Federal Deposit Insurance Act (FDI Act), 12 U.S.C. 1831y(b) and (c). The FDI Act authorizes the Federal Reserve to require the disclosure and reporting requirements of Regulation G (12 CFR part 207). In general, the Federal Reserve does not consider individual respondent commercial and financial information collected by the Federal Reserve pursuant to Regulation G as confidential. However, a respondent may request confidential treatment pursuant to section (b)(4) of Freedom of Information Act, 5 U.S.C 552(b)(4).

Abstract: Section 48 of the Federal Deposit Insurance Act (FDI Act), entitled “CRA Sunshine Requirements,” imposes disclosure and reporting requirements on IDIs or their affiliates, and NGEPs that enter into written agreements that meet certain criteria (covered agreements).¹ The written agreements must (1) be made in fulfillment of the CRA and (2) involve funds or other resources of an IDI or affiliate with an aggregate value of more than $10,000 in a year, or loans with an aggregate principal value of more than $50,000 in a year. Section 48 excludes from the disclosure and reporting requirements any agreement between an IDI or its affiliate and an NGEP if the NGEP has not contacted the IDI or its affiliate, or a banking agency, concerning the CRA performance of the IDI.

¹ 12 U.S.C. 1831y.

The disclosure and reporting requirements in connection with Regulation G are mandatory and apply to state member banks and their subsidiaries; savings and loan holding companies; bank holding companies; affiliates of bank holding companies, other than banks, savings associations, and subsidiaries of banks and savings associations; and NGEPs that enter into covered agreements with any of the aforementioned companies.

Current Actions: On November 21, 2012, the Federal Reserve published a notice in the Federal Register (77 FR 69843) requesting public comment for 60 days on the extension, without revision, of the Disclosure and Reporting Requirements of CRA-Related Agreements. The comment period for this notice expired on January 22, 2013. The Federal Reserve did not receive any comments.

2. Report title: Disclosure Requirements in Connection With Subpart H of Regulation H (Consumer Protections in Sales of Insurance).

Agency form number: Reg H-7.

OMB control number: 7100-0298.

Frequency: On occasion.

Reporters: State member banks.

Estimated annual reporting hours: 12,962 hours.

Estimated average hours per response: 1.5 minutes.

Number of respondents: 823.

General description of report: This information collection is mandatory pursuant the Federal Deposit Insurance (FDI) Act, 12 U.S.C. 1831x. The FDI Act authorizes the Federal Reserve to require the disclosure requirements associated with Subpart H of Regulation H (12 CFR 208.81-208.86). Since the Federal Reserve does not collect any information, no issue of confidentiality normally arises.

Abstract: Section 305 of the Gramm-Leach-Bliley Act of 1999 requires financial institutions to provide written and oral disclosures to consumers in connection with the initial sale of an insurance product or annuity concerning its uninsured nature and the existence of the investment risk, if appropriate, and the fact that insurance sales and credit may not be tied.

Covered persons are required to make insurance disclosures before the completion of the initial sale of an insurance product or annuity to a consumer. The disclosure must be made orally and in writing to the consumer that: (1) The insurance product or annuity is not a deposit or other obligation of, or guaranteed by, the financial institution or an affiliate of the financial institution; (2) the insurance product or annuity is not insured by the Federal Deposit Insurance Corporation or any other agency of the United States, the financial institution, or (if applicable) an affiliate of the financial institution; and (3) in the case of an insurance product or annuity that involves an investment risk, there is investment risk associated with the product, including the possible loss of value.

Covered persons are required to make a credit disclosure at the time a consumer applies for an extension of credit in connection with which an insurance product or annuity is solicited, offered, or sold. The disclosure must be made orally and in writing that the financial institution may not condition an extension of credit on either: (1) The consumer's purchase of an insurance product or annuity from the financial institution or any of its affiliates; or (2) the consumer's agreement not to obtain, or a prohibition on the consumer from obtaining, an insurance product or annuity from an unaffiliated entity.

Current Actions: On November 21, 2012, the Federal Reserve published a notice in the Federal Register (77 FR 69843) requesting public comment for 60 days on the extension, without revision, of the Disclosure Requirements in Connection With Subpart H of Regulation H (Consumer Protections in Sales of Insurance). The comment period for this notice expired on January 22, 2013. The Federal Reserve did not receive any comments.

Board of Governors of the Federal Reserve System, January 24, 2013.
Robert deV. Frierson,
Secretary of the Board.

[FR Doc. 2013-01827 Filed 1-28-13; 8:45 am]

BILLING CODE 6210-01-P